DEPARTMENT OF THE INTERIOR

National Park Service

[NPS-WASO-NAGPRA-NPS0031150; PPWOCRADN0-PCU00RP14.R50000]

Notice of Inventory Completion: The University of California Berkeley, Berkeley, CA

AGENCY: National Park Service, Interior.

ACTION: Notice.

SUMMARY: The University of California Berkeley has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the University of California Berkeley. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the University of California Berkeley at the address in this notice by December 21, 2020.

ADDRESSES: Dr. Thomas Torma, NAGPRA Liaison, Office of the Vice Chancellor for Research, University of California Berkeley, 119 California Hall, Berkeley, CA 94720-1500, telephone (510) 672-5388, email t.torma@berkeley.edu.

SUPPLEMENTARY INFORMATION: Notice is here given in accordance with the Native American Graves Protection and Repatriation Act (NAGPRA), 25 U.S.C. 3003, of the completion of an inventory of human remains under the control of The University of California Berkeley, Berkeley, CA. The human remains were removed from Modoc and Siskiyou Counties, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains objects was made by the University of California Berkeley professional staff in consultation with representatives of the Klamath Tribes and the Modoc Nation (previously listed as The Modoc Tribe of Oklahoma).

History and Description of the Remains

Sometime prior to 1901, human remains representing, at minimum, two individuals were removed by Ernest C. Bonner from an unknown location somewhere in Modoc County, CA. These human remains, which are in a fragmentary state, form part of the “older museums collection.” No known individuals were identified. No associated funerary objects are present.

As the human remains are listed as coming from a Modoc Grave in Modoc County, CA, cultural affiliation is based on archeological and historical research.

In 1913, human remains representing, at minimum, one individual were removed from Goose Lake in Modoc County, CA. These human remains were collected by H. H. Stuart from a burial ground located near a small dry run into the lake that covered one acre. The human remains are in a fragmentary state. No known individual was identified. No associated funerary objects are present.

At an unknown date, human remains representing, at minimum, eight individuals were removed from Goose Lake in Modoc County, CA, by H. H. Stuart. Stuart collected the human remains from the bed of the lake. In 1931, the human remains were accessioned by the University. The human remains are in a fragmentary state. No known individuals were identified. No associated funerary objects are present.

At an unknown time, human remains representing, at minimum, one individual were removed from the shore of Goose Lake in Modoc County, CA. The human remains were collected by the father of Dolores Bunyard, who donated them to the University in 1945. The human remains are in a fragmentary state. No known individual was identified. No associated funerary objects are present.

Goose Lake lies within the traditional territory of the Klamath Tribes. Cultural affiliation is based on archeological and historical research.

In August 1954, human remains representing, at minimum, one individual were removed by Gordon L. Grosscup and Robert J. Squier from a burial on the shore of Copic Island in Lower Klamath Lake, Siskiyou County, CA. The remains were accessioned by the University in the same year. The human remains are in a fragmentary state. No known individual was identified. No associated funerary objects are present.

Copic Island lies within the traditional territory of the Klamath Tribes. Cultural affiliation is based on archeological and historical research.

On August 4, 1925, human remains representing, at minimum, one individual were left outside of Room 5 of the anthropology building at the University of California Berkeley. A note accompanying the human remains stated “Klamath Falls Indian.” No known individual was identified. No associated funerary objects are present.

The exact location where this individual was discovered is unknown. Cultural affiliation is based on the documentation accompanying the human remains.

Determinations made by the University of California, Berkeley

Officials of the University of California, Berkeley have determined that:

• Pursuant to 25 U.S.C. 3001(9), the human remains described in this notice represent the physical remains of 14 individuals of Native American ancestry.

• Pursuant to 25 U.S.C. 3001(2), there is a relationship of shared group identity that can be reasonably traced between the Native American human remains and the Klamath Tribes.

Additional Requestors and Disposition

Lineal descendants or representatives of any Indian Tribe or Native Hawaiian organization not identified in this notice that wish to request transfer of control of these human remains should submit a written request with information in support of the request to Dr. Thomas Torma, NAGPRA Liaison, Office of the Vice Chancellor for Research, University of California Berkeley, 119 California Hall, Berkeley, CA 94720-1500, telephone (510) 672-5388, email t.torma@berkeley.edu, by December 21, 2020. After that date, if no additional requestors have come forward, transfer of control of the human remains to the Klamath Tribes may proceed.

The University of California Berkeley is responsible for notifying the Klamath Tribes and the Modoc Nation (previously listed as The Modoc Tribe of Oklahoma) that this notice has been published.

Dated: November 2, 2020.
Melanie O'Brien,
Manager, National NAGPRA Program.

[FR Doc. 2020-25522 Filed 11-18-20; 8:45 am]

BILLING CODE 4312-52-P